BUREAU OF CONSUMER FINANCIAL PROTECTION

12 CFR Part 1026

[Docket No. CFPB-2020-0028]

RIN 3170-AA98

Qualified Mortgage Definition Under the Truth in Lending Act (Regulation Z): Seasoned QM Loan Definition; Correction

AGENCY: Bureau of Consumer Financial Protection.

ACTION: Final rule; correction.

SUMMARY: The Bureau of Consumer Financial Protection (Bureau) recently published “Qualified Mortgage Definition Under the Truth in Lending Act (Regulation Z): Seasoned QM Loan Definition,” which appeared in the Federal Register on December 29, 2020. This document corrects a scrivener's error in an amendatory instruction in that document.

DATES: Effective March 1, 2021.

FOR FURTHER INFORMATION CONTACT: Amanda Quester, Senior Counsel, Office of Regulations, at (202) 435-7700. If you require this document in an alternative electronic format, please contact CFPB_Accessibility@cfpb.gov.

SUPPLEMENTARY INFORMATION: In FR Doc. 2020-27571 appearing on page 86402 in the Federal Register of Tuesday, December 29, 2020, the following correction is made:

§ 1026.43 [Corrected]

On page 86452, in the second column, in amendment 2, the instruction “Amend § 1026.43 by revising paragraphs (e)(1) and (e)(2) introductory text and adding paragraph (e)(7) to read as follows: ” is corrected to read: “Amend § 1026.43 by revising the headings for paragraphs (e) and (e)(1) and paragraphs (e)(1)(i) and (e)(2) introductory text and adding paragraph (e)(7) to read as follows:”.

Dated: January 15, 2021.
Grace Feola,
Federal Register Liaison, Bureau of Consumer Financial Protection.

[FR Doc. 2021-01387 Filed 2-4-21; 8:45 am]

BILLING CODE 4810-AM-P